DEPARTMENT OF ENERGY

Federal Energy Regulatory Commission

Docket Nos. RM05-17-002; RM05-25-002]

Preventing Undue Discrimination and Preference in Transmission Service; Notice of Agenda and Procedures for Staff Technical Conference

July 23, 2007.

This notice establishes the agenda and procedures for the staff technical conference to be held on July 30, 2007,¹ to discuss issues raised in requests for clarification and rehearing to Order No. 890 with regard to (1) the minimum lead-time for undesignating network resources in order to make firm third-party sales and (2) the eligibility of on-system seller's choice and system sales to be designated as network resources.² The technical conference will be held from 9 a.m. to 3 p.m. (EDT) at the Federal Energy Regulatory Commission, 888 First Street, NE., Washington, DC 20426, in the Commission Meeting Room. All interested persons are invited to attend, and registration is not required.

¹ The initial notice establishing the date of this technical conference was issued on July 12, 2007. The technical conference was directed in the Commission Order Establishing Technical Conference and Providing Guidance issued June 26, 2007, in this proceeding.

² Preventing Undue Discrimination and Preference in Transmission Service, Order No. 890, 72 FR 12266 (March 15, 2007), FERC Stats. & Regs. ¶ 31,241 at PP 1483 and 1557-59 (2007), reh'g pending.

The agenda for this conference is attached. In order to allot sufficient time for questions and responses, each speaker will be provided with ten minutes for prepared remarks. Presenters who want to distribute copies of their prepared remarks or handouts should bring 100 double-sided copies to the technical conference. Equipment will also be available for computer presentations, if requested.³ Presenters who wish to include comments, presentations, or handouts in the record for this proceeding should file their comments with the Commission. Comments may either be filed on paper or electronically via the eFiling link on the Commission's Web site at http://www.ferc.gov.

³ In order to facilitate discussion, we ask panelists to limit their use of electronic presentation equipment during the conference to the display of graphics, charts or other materials aside from outlines of their comments.

A free webcast of this event is available through http://www.ferc.gov. Anyone with Internet access who desires to view this event can do so by navigating to www.ferc.gov's Calendar of Events and locating this event in the calendar. The event will contain a link to its webcast. The Capitol Connection provides technical support for the free webcasts. It also offers access to this event via television in the DC area and via phone bridge for a fee. If you have any questions, visit http://www.CapitolConnection.org or contact Danelle Springer or David Reininger at 703-993-3100.

FERC conferences are accessible under section 508 of the Rehabilitation Act of 1973. For accessibility accommodations please send an e-mail to accessibility@ferc.gov or call toll free 1-866-208-3372 (voice) or 202-208-8659 (TTY), or send a fax to 202-208-2106 with the required accommodations.

For further information about this conference, please contact:

Tom Dautel, Office of Energy Markets and Reliability, Federal Energy Regulatory Commission, 888 First Street, NE., Washington, DC 20426, (202) 502-6196, Thomas.Dautel@ferc.gov.

W. Mason Emnett, Office of the General Counsel—Energy Markets, Federal Energy Regulatory Commission, 888 First Street, NE., Washington, DC 20426, (202) 502-6540, Mason.Emnett@ferc.gov.

Kimberly E. Bose,
Secretary.

Attachment A—Agenda for Order No. 890 Staff Technical Conference

Federal Energy Regulatory Commission

July 30, 2007.

9 a.m. Opening remarks and introductions.

9:15 a.m. Panel I—Eligibility of on-system seller's choice and system sales to be designated as network resources.

Barry Bennett, Attorney, Bonneville Power Administration.

Charlotte Glassman, Transmission Contracts Manager, Duke Energy Carolinas, LLC.

Jeff Guldner, Director, Federal Regulation and Compliance, Arizona Public Service Company.

Tom Haymaker, Vice President, Power Supply, PNGC Power.

Robert Lafferty, Manager, Wholesale Marketing & Contracts, Avista Corporation.

Jim Sheffield, Vice President, Morgan Stanley.

11:45 a.m. Lunch.

12:30 p.m. Panel II—Minimum lead-time for undesignating network resources in order to make firm third-party sales.

Jeff Atkinson, Manager of Power Planning and Marketing, Grant County PUD.

Michael Beer, Vice President, Federal Regulation and Policy, E.ON U.S.

Jeff Guldner, Director, Federal Regulation and Compliance, Arizona Public Service Company.

Tom Haymaker, Vice President, Power Supply, PNGC Power.

Robert Lafferty, Manager, Wholesale Marketing & Contracts, Avista Corporation.

Jim Sheffield, Vice President, Morgan Stanley.

3 p.m. Adjourn.

Note: all times are local.

[FR Doc. E7-14742 Filed 7-30-07; 8:45 am]

BILLING CODE 6717-01-P